DEPARTMENT OF DEFENSE

Department of the Navy

Meeting of the Board of Advisors to the Superintendent, Naval Postgraduate School

AGENCY: Department of the Navy, DOD.

ACTION: Notice of Open Meeting.

SUMMARY: The purpose of this meeting is to elicit the advice of the board on the Naval Service's Postgraduate Education Program. The board examines the effectiveness with which the Naval Postgraduate School is accomplishing its mission. To this end, the board will inquire into the curricula, instruction, physical equipment, administration, state of morale of the student body, faculty, and staff; fiscal affairs; and any other matters relating to the operation of the Naval Postgraduate School, as the board considers pertinent. This meeting will be open to the public.

DATES: The meeting will be held on Monday, April 2, 2001, from 9:00 a.m. to 4:00 p.m. and on Tuesday, April 3, 2001, from 9:00 a.m. to 12:00 p.m.

ADDRESSES: The meeting will be held at the National Defense University, Fort McNair, Hill Conference Room, Roosevelt Hall, Washington, DC.

FOR FURTHER INFORMATION CONTACT: Mrs. Jaye Panza, Naval Postgraduate School, 1 University Circle, Monterey, California, 93943-5000, telephone number (831) 656-2514.

SUPPLEMENTARY INFORMATION: Notice of this meeting is provided in accordance with the Federal Advisory Committee Act, 5 U.S.C. App. 2. This meeting was originally scheduled for March 5 and 6, 2001, and public notice was published on February 26, 2001 (65 FR 11568). Due to administrative constraints, notice of cancellation of the March 5 and 6, 2001, meeting could not be provided prior to the meeting. Due to administrative constraints in rescheduling the meeting, the normal 15 days notice could not be provided.

Dated: March 14, 2001.
J.L. Roth,
Lieutenant Commander, Judge Advocate General's Corp, U.S. Navy, Federal Register Liaison Officer.

[FR Doc. 01-7326 Filed 3-23-01; 8:45 am]

BILLING CODE 3810-FF-P